DEPARTMENT OF TRANSPORTATION

Federal Aviation Administration

14 CFR Part 39

[Docket No. FAA-2008-1096; Directorate Identifier 2008-NM-158-AD; Amendment 39-15693; AD 2008-21-09]

RIN 2120-AA64

Airworthiness Directives; Bombardier Model CL-600-1A11 (CL-600),CL-600-2A12 (CL-601), CL-600-2B16 (CL-601-3A, CL-601-3R, & CL-604 (Including CL-605 Marketing Variant)) Airplanes, and Model CL-600-2B19 (Regional Jet Series 100 & 440) Airplanes

AGENCY: Federal Aviation Administration (FAA), Department of Transportation (DOT).

ACTION: Final rule; request for comments.

SUMMARY: The FAA is superseding an existing airworthiness directive (AD) that applies to all Bombardier Model CL-600-2B19 (Regional Jet Series 100 & 440) airplanes and Model CL-600-1A11 (CL-600), CL-600-2A12 (CL-601), and CL-600-2B16 (CL-601-3A, CL-601-3R, and CL-604) airplanes. The existing AD currently requires revising the airplane flight manuals (AFMs) to include new cold weather operations limitations and procedures. This AD requires revising the AFMs to include a requirement for flightcrew training regarding enhanced take-off procedures and winter operations. This AD results from reports of uncommanded roll during take-off. We are issuing this AD to prevent possible loss of control on take-off resulting from even small amounts of frost, ice, snow, or slush on the wing leading edges or forward upper wing surfaces.

DATES: This AD becomes effective October 31, 2008.

The Director of the Federal Register approved the incorporation by reference of certain publications listed in the AD as of October 31, 2008.

On April 21, 2008 (73 FR 19989, April 14, 2008), the Director of the Federal Register approved the incorporation by reference of certain publications listed in this AD.

We must receive any comments on this AD by November 17, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Bombardier, Inc., Canadair, Aerospace Group, P.O. Box 6087, Station Centre-ville, Montreal, Quebec H3C 3G9, Canada.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Bruce Valentine, Aerospace Engineer, Systems and Flight Test Branch, ANE-172, FAA, New York Aircraft Certification Office, 1600 Stewart Avenue, Suite 410, Westbury, New York 11590; telephone (516) 228-7328; fax (516) 794-5531.

SUPPLEMENTARY INFORMATION:

Discussion

On April 2, 2008, the FAA issued AD 2008-08-06, amendment 39-15458 (73 FR 19989, April 14, 2008). That AD applies to all Bombardier Model CL-600-2B19 (Regional Jet Series 100 & 440) airplanes and Model CL-600-1A11 (CL-600), CL-600-2A12 (CL-601), and CL-600-2B16 (CL-601-3A, CL-601-3R, and CL-604) airplanes. That AD requires revising the airplane flight manuals (AFMs) to include new cold weather operations limitations and procedures. That AD resulted from reports of uncommanded roll during take-off. The actions specified in that AD are intended to prevent possible loss of control on take-off resulting from even small amounts of frost, ice, snow, or slush on the wing leading edges or forward upper wing surfaces.

Actions Since AD Was Issued

The preamble to AD 2008-08-06 specified that we considered the requirements “interim action” and that Transport Canada Civil Aviation (TCCA) advised that it was developing further actions, such as crew awareness and training with regard to winter operations to address the unsafe condition addressed by that AD. That AD explains that we might consider further rulemaking if those further actions are developed, approved, and available. TCCA has now advised us that the manufacturer has developed these actions, and we have determined that further rulemaking is indeed necessary; this AD follows from that determination.

Relevant Service Information

Bombardier has issued the temporary revisions (TRs) listed in the “Temporary Revisions” table. The temporary revisions describe limitations that include tactile inspections for ice during certain weather conditions, limitations and procedures for use of wing and cowl anti-ice during certain taxiing or take-off conditions, and take-off limitations to reduce high-pitch attitudes during rotation. The temporary revisions also describe a limitation, effective November 1, 2008, that requires flightcrew training regarding enhanced take-off procedures and winter operations. Accomplishing the actions specified in the service information is intended to adequately address the unsafe condition. TCCA mandated the service information and issued Canadian airworthiness directives CF-2008-15R1 and CF-2008-16R1, both dated August 20, 2008 (referred to after this as “the MCAI”), to ensure the continued airworthiness of these airplanes in Canada.

Temporary Revisions
For Bombardier model— | Use— | Dated— | To the—
CL-600-2B16 (CL-604) airplanes, serial numbers 5301 through 5699 | Bombardier Temporary Revision 604/24-2 | August 7, 2008 | Bombardier Challenger CL-604 AFM, PSP 604-1.
CL-600-2B16 (CL-604) airplanes, serial numbers 5701 and subsequent (might also be referred to by a marketing designation as CL-605) | Bombardier Temporary Revision 605/1-2 | August 7, 2008 | Bombardier Challenger CL-605 AFM, PSP 605-1.
CL-600-1A11 (CL-600) airplanes | Canadair Temporary Revision 600/25-2 | August 7, 2008 | Canadair Challenger CL-600-1A11 AFM.
CL-600-1A11 (CL-600) airplanes | Canadair Temporary Revision 600-1/20-2 | August 7, 2008 | Canadair Challenger CL-600-1A11 AFM (Winglets).
CL-600-2A12 (CL-601) airplanes | Canadair Temporary Revision 601/17-2 | August 7, 2008 | Canadair Challenger CL-600-2A12 AFM, PSP 601-1B-1.
CL-600-2A12 (CL-601) airplanes | Canadair Temporary Revision 601/18-2 | August 7, 2008 | Canadair Challenger CL-600-2A12 AFM, PSP 601-1A-1.
CL-600-2A12 (CL-601) airplanes | Canadair Temporary Revision 601/22-2 | August 7, 2008 | Canadair Challenger CL-600-2A12 AFM, PSP 601-1B.
CL-600-2B16 (CL-601-3A, and CL-601-3R) airplanes | Canadair Temporary Revision 601/29-2 | August 7, 2008 | Canadair Challenger CL-600-2B16 AFM, PSP 601A-1.
CL-600-2A12 (CL-601) airplanes | Canadair Temporary Revision 601/30-2 | August 7, 2008 | Canadair Challenger CL-600-2A12 AFM.
CL-600-2B16 (CL-601-3A, and CL-601-3R) airplanes | Canadair Temporary Revision 601/30-2 | August 7, 2008 | Canadair Challenger CL-600-2B16 AFM, PSP 601A-1-1.
CL-600-2B19 (Regional Jet Series 100 & 440) airplanes | Canadair Temporary Revision RJ/155-5 | August 7, 2008 | Canadair Regional Jet AFM, CSP A-012.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined an unsafe condition exists and is likely to exist or develop on other products of the same type design.

Therefore, we are issuing this AD to supersede AD 2008-08-06. This new AD retains certain requirements of the existing AD. This AD also requires revising the AFMs to include a requirement for flightcrew training regarding enhanced take-off procedures and winter operations.

Differences Between This AD and the Canadian Airworthiness Directives

The Canadian airworthiness directives specify that operators should advise flightcrews of the changes introduced by the TRs; and review the “Pilot's Checklist” to ensure that the instructions regarding selection of the wing anti-ice system to “ON,” as specified in the AFM Limitations section, are incorporated. We do not require these actions because there is no method to determine compliance with these actions.

Change to Existing AD

This AD retains certain requirements of AD 2008-08-06; however, certain paragraphs have been rearranged. As a result, the corresponding paragraph identifiers have changed in this AD, as listed in the following table:

Revised Paragraph Identifiers
Requirement in AD 2008-08-06 | Corresponding requirement in this AD
Paragraph (f) | Not retained in this AD.
Paragraph (g) | Paragraph (f).
Paragraph (h) | Paragraph (g).
Paragraph (i) | Paragraph (j).

FAA's Justification and Determination of the Effective Date

We are rapidly approaching the ice/snow season and the pilot training regarding enhanced take-off procedures and winter operations must be accomplished before the season begins. Because of our requirement to promote safe flight of civil aircraft and thus, the critical need to prevent uncommanded roll during take-off and the short compliance time involved with this action, this AD must be issued immediately.

Because an unsafe condition exists that requires the immediate adoption of this AD, we find that notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2008-1096; Directorate Identifier 2008-NM-158-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-15458 (73 FR 19989, April 14, 2008) and adding the following new AD:

2008-21-09 Bombardier, Inc. (Formerly Canadair): Docket No. FAA-2008-1096; Directorate Identifier 2008-NM-158-AD; Amendment 39-15693.

Effective Date

(a) This AD becomes effective October 31, 2008.

Affected ADs

(b) This AD supersedes AD 2008-08-06.

Applicability

(c) This AD applies to all Bombardier Model CL-600-1A11 (CL-600), CL-600-2A12 (CL-601), CL-600-2B16 (CL-601-3A, CL-601-3R, & CL-604) airplanes, and Model CL-600-2B19 (Regional Jet Series 100 & 440) airplanes, certificated in any category.

Note 1: Some Model CL-600-2B16 (CL-604) airplanes might be referred to by a marketing designation as CL-605.

Note 2: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued operational safety of the airplane.

Unsafe Condition

(d) This AD results from reports of uncommanded roll during take-off. We are issuing this AD to prevent possible loss of control on take-off resulting from even small amounts of frost, ice, snow, or slush on the wing leading edges or forward upper wing surfaces.

Compliance

(e) You are responsible for having the actions required by this AD performed within the compliance times specified, unless the actions have already been done.

Restatement of AD 2008-08-06

Revision to Airplane Flight Manual (AFM)

(f) Within 7 days after April 21, 2008 (the effective date of AD 2008-08-06), revise the applicable sections of the applicable AFM by inserting a copy of the applicable temporary revision (TR) listed in Table 1 of this AD. Thereafter, operate the airplanes per the limitation specified in the applicable TR, except as provided by paragraphs (h) and (j) of this AD. Doing the revision required by paragraph (h) of this AD terminates the requirements of this paragraph.

(g) When information identical to that in a TR specified in paragraph (f) of this AD has been included in the general revisions of the applicable AFM, the general revisions may be inserted into the AFM, and the TR may be removed from that AFM.

Table 1—Temporary Revisions for AD 2008-08-06
For Bombardier model— | Use— | Dated— | To the—
CL-600-1A11 (CL-600) airplanes | Canadair Temporary Revision 600/25-1 | March 20, 2008 | Limitations and Normal Procedures sections of Canadair Challenger CL-600-1A11 AFM.
CL-600-1A11 (CL-600) airplanes | Canadair Temporary Revision 600-1/20-1 | March 20, 2008 | Limitations and Normal Procedures sections of Canadair Challenger CL-600-1A11 AFM (Winglets).
CL-600-2A12 (CL-601) airplanes | Canadair Temporary Revision 601/17-1 | March 20, 2008 | Limitations and Normal Procedures sections of Canadair Challenger CL-600-2A12 AFM, PSP 601-1B-1.
CL-600-2A12 (CL-601) airplanes | Canadair Temporary Revision 601/18-1 | March 20, 2008 | Limitations and Normal Procedures sections of Canadair Challenger CL-600-2A12 AFM, PSP 601-1A-1.
CL-600-2A12 (CL-601) airplanes | Canadair Temporary Revision 601/22-1 | March 20, 2008 | Limitations and Normal Procedures sections of Canadair Challenger CL-600-2A12 AFM, PSP 601-1B.
CL-600-2A12 (CL-601) airplanes | Canadair Temporary Revision 601/30-1 | March 20, 2008 | Limitations and Normal Procedures sections of Canadair Challenger CL-600-2A12 AFM.
CL-600-2B16 (CL-601-3A, and CL-601-3R) airplanes | Canadair Temporary Revision 601/29-1 | March 20, 2008 | Limitations and Normal Procedures sections of Canadair Challenger CL-600-2B16 AFM, PSP 601A-1.
CL-600-2B16 (CL-601-3A, and CL-601-3R) airplanes | Canadair Temporary Revision 601/30-1 | March 20, 2008 | Limitations and Normal Procedures sections of Canadair Challenger CL-600-2B16 AFM, PSP 601A-1-1.
CL-600-2B16 (CL-604) airplanes, serial numbers 5301 through 5699 | Bombardier Temporary Revision 604/24-1 | March 20, 2008 | Limitations and Normal Procedures sections of Bombardier Challenger CL-604 AFM, PSP 604-1.
CL-600-2B16 (CL-604) airplanes, serial numbers 5701 and subsequent | Bombardier Temporary Revision 605/1-1 | March 20, 2008 | Limitations and Normal Procedures sections of Bombardier Challenger CL-605 AFM, PSP 605-1.
CL-600-2B19 (Regional Jet Series 100 & 440) airplanes | Canadair Temporary Revision RJ/155-3 | March 25, 2008 | Limitations and Abnormal Procedures sections and Supplement 15 of Canadair Regional Jet AFM, CSP A-012.

New Requirements of This AD

New Revision to the AFM

(h) Within 14 days after the effective date of this AD, revise the applicable sections of the applicable AFM by inserting a copy of the applicable TR listed in Table 2 of this AD. Thereafter, operate the airplanes per the limitation specified in the applicable TR, except as provided by paragraph (j) of this AD. Once the applicable temporary revision required by this paragraph is inserted into the AFM, the applicable revision required by paragraph (f) of this AD may be removed from the AFM.

(i) When information identical to that in a TR specified in paragraph (h) of this AD has been included in the general revisions of the applicable AFM, the general revisions may be inserted into the AFM, and the TR may be removed from that AFM.

Table 2—Current/New Temporary Revisions
For Bombardier model— | Use— | Dated— | To the—
CL-600-2B16 (CL-604) airplanes, serial numbers 5301 through 5699 | Bombardier Temporary Revision 604/24-2 | August 7, 2008 | Limitations and Normal Procedures sections of Bombardier Challenger CL-604 AFM, PSP 604-1.
CL-600-2B16 (CL-604) airplanes, serial numbers 5701 and subsequent (might also be referred to by a marketing designation as CL-605) | Bombardier Temporary Revision 605/1-2 | August 7, 2008 | Limitations and Normal Procedures sections of Bombardier Challenger CL-605 AFM, PSP 605-1.
CL-600-1A11 (CL-600) airplanes | Canadair Temporary Revision 600/25-2 | August 7, 2008 | Limitations and Normal Procedures sections of Canadair Challenger CL-600-1A11 AFM.
CL-600-1A11 (CL-600) airplanes | Canadair Temporary Revision 600-1/20-2 | August 7, 2008 | Limitations and Normal Procedures sections of Canadair Challenger CL-600-1A11 AFM (Winglets).
CL-600-2A12 (CL-601) airplanes | Canadair Temporary Revision 601/17-2 | August 7, 2008 | Limitations and Normal Procedures sections of Canadair Challenger CL-600-2A12 AFM, PSP 601-1B-1.
CL-600-2A12 (CL-601) airplanes | Canadair Temporary Revision 601/18-2 | August 7, 2008 | Limitations and Normal Procedures sections of Canadair Challenger CL-600-2A12 AFM, PSP 601-1A-1.
CL-600-2A12 (CL-601) airplanes | Canadair Temporary Revision 601/22-2 | August 7, 2008 | Limitations and Normal Procedures sections of Canadair Challenger CL-600-2A12 AFM, PSP 601-1B.
CL-600-2B16 (CL-601-3A, and CL-601-3R) airplanes | Canadair Temporary Revision 601/29-2 | August 7, 2008 | Limitations and Normal Procedures sections of Canadair Challenger CL-600-2B16 AFM, PSP 601A-1.
CL-600-2A12 (CL-601) airplanes | Canadair Temporary Revision 601/30-2 | August 7, 2008 | Limitations and Normal Procedures sections of Canadair Challenger CL-600-2A12 AFM.
CL-600-2B16 (CL-601-3A, and CL-601-3R) airplanes | Canadair Temporary Revision 601/30-2 | August 7, 2008 | Limitations and Normal Procedures sections of Canadair Challenger CL-600-2B16 AFM, PSP 601A-1-1.
CL-600-2B19 (Regional Jet Series 100 & 440) airplanes | Canadair Temporary Revision RJ/155-5 | August 7, 2008 | Limitations and Abnormal Procedures sections and Supplement 15 of Canadair Regional Jet AFM, CSP A-012.

Alternative Methods of Compliance (AMOCs)

(j) The Manager, New York Aircraft Certification Office (ACO), FAA, has the authority to approve AMOCs for this AD, if requested using the procedures found in 14 CFR 39.19. Send information to ATTN: Bruce Valentine, Aerospace Engineer, Systems and Flight Test Branch, ANE-172, FAA, New York ACO, 1600 Stewart Avenue, Suite 410, Westbury, New York 11590; telephone (516) 228-7328; fax (516) 794-5531. Before using any approved AMOC on any airplane to which the AMOC applies, notify your appropriate principal inspector (PI) in the FAA Flight Standards District Office (FSDO), or lacking a PI, your local FSDO.

Related Information

(k) Canadian airworthiness directives CF-2008-15R1 and CF-2008-16R1, both dated August 20, 2008, also address the subject of this AD.

Material Incorporated by Reference

(l) You must use the applicable temporary revisions to the applicable airplane flight manual specified in Table 3 of this AD to perform the actions that are required by this AD, unless the AD specifies otherwise.

(1) The Director of the Federal Register approved the incorporation by reference of the documents listed in Table 4 of this AD in accordance with 5 U.S.C. 552(a) and 1 CFR part 51.

(2) On April 21, 2008 (73 FR 19989, April 14, 2008), the Director of the Federal Register approved the incorporation by reference of the documents listed in Table 5 of this AD.

(3) Contact Bombardier, Inc., Canadair, Aerospace Group, P.O. Box 6087, Station Centre-ville, Montreal, Quebec H3C 3G9, Canada, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Table 3—All Material Incorporated by Reference
Use— | Dated— | To the—
Bombardier Temporary Revision 604/24-1 | March 20, 2008 | Bombardier Challenger CL-604 Airplane Flight Manual, PSP 604-1.
Bombardier Temporary Revision 604/24-2 | August 7, 2008 | Bombardier Challenger CL-604 Airplane Flight Manual, PSP 604-1.
Bombardier Temporary Revision 605/1-1 | March 20, 2008 | Bombardier Challenger CL-605 Airplane Flight Manual, PSP 605-1.
Bombardier Temporary Revision 605/1-2 | August 7, 2008 | Bombardier Challenger CL-605 Airplane Flight Manual, PSP 605-1.
Canadair Temporary Revision 600/25-1 | March 20, 2008 | Canadair Challenger CL-600-1A11 Airplane Flight Manual.
Canadair Temporary Revision 600/25-2 | August 7, 2008 | Canadair Challenger CL-600-1A11 Airplane Flight Manual.
Canadair Temporary Revision 600-1/20-1 | March 20, 2008 | Canadair Challenger CL-600-1A11 Airplane Flight Manual (Winglets).
Canadair Temporary Revision 600-1/20-2 | August 7, 2008 | Canadair Challenger CL-600-1A11 Airplane Flight Manual (Winglets).
Canadair Temporary Revision 601/17-1 | March 20, 2008 | Canadair Challenger CL-600-2A12 Airplane Flight Manual, PSP 601-1B-1.
Canadair Temporary Revision 601/17-2 | August 7, 2008 | Canadair Challenger CL-600-2A12 Airplane Flight Manual, PSP 601-1B-1.
Canadair Temporary Revision 601/18-1 | March 20, 2008 | Canadair Challenger CL-600-2A12 Airplane Flight Manual, PSP 601-1A-1.
Canadair Temporary Revision 601/18-2 | August 7, 2008 | Canadair Challenger CL-600-2A12 Airplane Flight Manual, PSP 601-1A-1.
Canadair Temporary Revision 601/22-1 | March 20, 2008 | Canadair Challenger CL-600-2A12 Airplane Flight Manual, PSP 601-1B.
Canadair Temporary Revision 601/22-2 | August 7, 2008 | Canadair Challenger CL-600-2A12 Airplane Flight Manual, PSP 601-1B.
Canadair Temporary Revision 601/29-1 | March 20, 2008 | Canadair Challenger CL-600-2B16 Airplane Flight Manual, PSP 601A-1.
Canadair Temporary Revision 601/29-2 | August 7, 2008 | Canadair Challenger CL-600-2B16 Airplane Flight Manual, PSP 601A-1.
Canadair Temporary Revision 601/30-1 | March 20, 2008 | Canadair Challenger CL-600-2A12 Airplane Flight Manual.
Canadair Temporary Revision 601/30-1 | March 20, 2008 | Canadair Challenger CL-600-2B16 Airplane Flight Manual, PSP 601A-1-1.
Canadair Temporary Revision 601/30-2 | August 7, 2008 | Canadair Challenger CL-600-2A12 Airplane Flight Manual.
Canadair Temporary Revision 601/30-2 | August 7, 2008 | Canadair Challenger CL-600-2A12 Airplane Flight Manual, PSP 605-1.
Canadair Temporary Revision RJ/155-3 | March 25, 2008 | Canadair Regional Jet Airplane Flight Manual, CSP A-012.
Canadair Temporary Revision RJ/155-5 | August 7, 2008 | Canadair Regional Jet Airplane Flight Manual, CSP A-012.

Table 4—New Material Incorporated by Reference
Use— | Dated— | To the—
Bombardier Temporary Revision 604/24-2 | August 7, 2008 | Bombardier Challenger CL-604 Airplane Flight Manual, PSP 604-1.
Bombardier Temporary Revision 605/1-2 | August 7, 2008 | Bombardier Challenger CL-605 Airplane Flight Manual, PSP 605-1.
Canadair Temporary Revision 600/25-2 | August 7, 2008 | Canadair Challenger CL-600-1A11 Airplane Flight Manual.
Canadair Temporary Revision 600-1/20-2 | August 7, 2008 | Canadair Challenger CL-600-1A11 Airplane Flight Manual (Winglets).
Canadair Temporary Revision 601/17-2 | August 7, 2008 | Canadair Challenger CL-600-2A12 Airplane Flight Manual, PSP 601-1B-1.
Canadair Temporary Revision 601/18-2 | August 7, 2008 | Canadair Challenger CL-600-2A12 Airplane Flight Manual, PSP 601-1A-1.
Canadair Temporary Revision 601/22-2 | August 7, 2008 | Canadair Challenger CL-600-2A12 Airplane Flight Manual, PSP 601-1B.
Canadair Temporary Revision 601/29-2 | August 7, 2008 | Canadair Challenger CL-600-2B16 Airplane Flight Manual, PSP 601A-1.
Canadair Temporary Revision 601/30-2 | August 7, 2008 | Canadair Challenger CL-600-2A12 Airplane Flight Manual.
Canadair Temporary Revision 601/30-2 | August 7, 2008 | Canadair Challenger CL-600-2B16 Airplane Flight Manual, PSP 601A-1-1.
Canadair Temporary Revision RJ/155-5 | August 7, 2008 | Canadair Regional Jet Airplane Flight Manual, CSP A-012.

Table 5—Previous Material Incorporated by Reference
Use— | Dated— | To the—
Bombardier Temporary Revision 604/24-1 | March 20, 2008 | Bombardier Challenger CL-604 Airplane Flight Manual, PSP 604-1.
Bombardier Temporary Revision 605/1-1 | March 20, 2008 | Bombardier Challenger CL-605 Airplane Flight Manual, PSP 605-1.
Canadair Temporary Revision 600/25-1 | March 20, 2008 | Canadair Challenger CL-600-1A11 Airplane Flight Manual.
Canadair Temporary Revision 600-1/20-1 | March 20, 2008 | Canadair Challenger CL-600-1A11 Airplane Flight Manual (Winglets).
Canadair Temporary Revision 601/17-1 | March 20, 2008 | Canadair Challenger CL-600-2A12 Airplane Flight Manual, PSP 601-1B-1.
Canadair Temporary Revision 601/18-1 | March 20, 2008 | Canadair Challenger CL-600-2A12 Airplane Flight Manual, PSP 601-1A-1.
Canadair Temporary Revision 601/22-1 | March 20, 2008 | Canadair Challenger CL-600-2A12 Airplane Flight Manual, PSP 601-1B.
Canadair Temporary Revision 601/29-1 | March 20, 2008 | Canadair Challenger CL-600-2B16 Airplane Flight Manual, PSP 601A-1.
Canadair Temporary Revision 601/30-1 | March 20, 2008 | Canadair Challenger CL-600-2A12 Airplane Flight Manual.
Canadair Temporary Revision 601/30-1 | March 20, 2008 | Canadair Challenger CL-600-2B16 Airplane Flight Manual, PSP 601A-1-1.
Canadair Temporary Revision RJ/155-3 | March 25, 2008 | Canadair Regional Jet Airplane Flight Manual, CSP A-012.

Issued in Renton, Washington, on October 7, 2008.
Ali Bahrami,
Manager, Transport Airplane Directorate, Aircraft Certification Service.

[FR Doc. E8-24549 Filed 10-15-08; 8:45 am]

BILLING CODE 4910-13-P